DEPARTMENT OF TRANSPORTATION

Federal Highway Administration

Environmental Impact Statement (EIS): Erie County

AGENCY: Federal Highway Administration (FHWA), DOT.

ACTION: Rescinded notice of intent (NOI).

SUMMARY: The FHWA is issuing this rescinded notice to advise the public that FHWA will not be preparing and issuing an Environmental Impact Statement (EIS) on a proposal to replace the former South Michigan Avenue Bridge in the City of Buffalo, Erie County, New York [New York State Department of Transportation (NYSDOT) Project Identification Number (PIN) 5758.17]. The NOI to prepare an EIS was published in the Federal Register on April 13, 2009.

FOR FURTHER INFORMATION CONTACT: Frank Cirillo, Regional Director, New York State Department of Transportation, 100 Seneca Street, Buffalo, New York 14203, Telephone: (716) 847-3238; or Richard Marquis, Division Administrator, Federal Highway Administration, New York Division, Leo W. O'Brien Federal Building, 7th Floor, 11A Clinton Avenue, Albany, New York 12207, Telephone: (518) 431-8897.

SUPPLEMENTARY INFORMATION: The FHWA, in cooperation with the NYSDOT and the Erie Canal Harbor Development Corporation (ECHDC), previously intended to prepare an EIS to evaluate the effects of a proposal to replace the former South Michigan Avenue Bridge in the City of Buffalo, Erie County, New York. The proposed improvements involved constructing a transportation facility that would provide a direct link from the inner harbor to the outer harbor area while maintaining adequate waterway access for recreational and commercial watercrafts. The Final Scoping Report (March 2010) states “the purpose of this project is to directly and efficiently connect the New Downtown and the Outer Harbor area with a multi-modal (pedestrian, bicyclist, and motorized traffic) transportation facility over the Buffalo River and/or City Ship Canal in the City of Buffalo.” As stated in the original NOI, alternatives under consideration included: (1) Taking no action; (2) replacing the South Michigan Avenue Bridge on existing alignment; and (3) constructing a new bridge on new alignment across the Buffalo River and/or City Ship Canal. Several potential locations for the facility were considered within a 1.5-mile corridor extending from the mouth of the Buffalo River (in the vicinity of the Erie Basin Marina) to the southern navigation limit of the City Ship Canal (west of the existing Ohio Street Bridge).

Subsequent to publication of the March 2010 Final Scoping Report and upon progression of preliminary design and environmental review, it has been determined that sufficient funding is not available to progress a project that would meet the stated project purpose and address identified needs. Due to funding constraints, the Project cannot progress as originally envisioned. Thus, it has been determined that the Project must be terminated. Termination of this project does not preclude such work from being conducted in the future as an independent project, or as part of a larger independent action. Should the State or locality seek to undertake similar work in the future, work will be viewed and deemed as an independent action from that described above and will be required to undergo appropriate Federal and/or state environmental review.

Comments and questions concerning the proposed action should be directed to the FHWA contact person at the address provided above.

Richard Marquis,
New York Division Administrator, Albany, New York.

[FR Doc. 2019-27020 Filed 12-13-19; 8:45 am]

BILLING CODE 4910-RY-P